DEPARTMENT OF THE INTERIOR

Bureau of Land Management

[AK-933-1410-ET; AA-50617]

Public Land Order No. 7554; Revocation of Three Executive Orders; Alaska

AGENCY: Bureau of Land Management, Interior.

ACTION: Public land order.

SUMMARY: This order revokes, in their entirety, three Executive Orders as they affect 2.538 acres of public lands withdrawn for administrative purposes for use by the Department of the Treasury at Wrangell, Alaska. The lands are no longer needed for the purpose for which they were withdrawn.

EFFECTIVE DATE: January 29, 2003.

FOR FURTHER INFORMATION CONTACT: Robbie J. Havens, Bureau of Land Management, Alaska State Office, 222 W. 7th Avenue, No. 13, Anchorage, Alaska 99513-7599, 907-271-5477.

SUPPLEMENTARY INFORMATION: A portion of the lands have been eroded by the ocean and are now submerged and a portion of the lands have been placed under the jurisdiction of the U.S. Postal Service. The remaining lands will continue to be subject to the terms and conditions of Public Land Order No. 5180, as amended, and any other withdrawal or segregation of record.

Order

By virtue of the authority vested in the Secretary of the Interior by section 204 of the Federal Land Policy and Management Act of 1976, 43 U.S.C. 1714 (1994), and by section 17(d)(1) of the Alaska Native Claims Settlement Act, 43 U.S.C. 1616(d)(1) (1994), it is ordered as follows:

1. Executive Order dated June 21, 1890, Executive Order No. 3077, dated April 16, 1919, and Executive Order No. 8054, dated February 23, 1939, which withdrew public lands for administrative purposes, are hereby revoked in their entirety as they affect the following described lands:

Copper River Meridian

Located within T. 62 S., R. 83 E., described as:

(a) U.S. Survey No. 125.

The area described contains 2.476 acres.

(b) U.S. Survey No. 1119, lots 12 and 13, Block 9.

The area described contains .062 acre.

The areas described in (a) and (b) above aggregate 2.538 acres.

2. The lands described in paragraph 1(a) above have been placed under the jurisdiction of the U.S. Postal Service pursuant to section 2002(C) of the Postal Reorganization Act, 39 U.S.C. 101 (1994). The lands described in paragraph 1(b) will continue to be subject to the terms and conditions of Public Land Order No. 5180, as amended, and any other withdrawal or segregation of record.

Dated: January 9, 2003.
Rebecca W. Watson,
Assistant Secretary—Land and Minerals Management.

[FR Doc. 03-2045 Filed 1-28-03; 8:45 am]

BILLING CODE 4310-JA-P